DEPARTMENT OF THE INTERIOR

Fish and Wildlife Service

50 CFR Part 17

[Docket No. FWS-R1-ES-2012-0097; FXES11130900000C2-123-FF09E32000]

RIN 1018-AZ74

Endangered and Threatened Wildlife and Plants; 12-Month Finding on a Petition To Delist the Southern Selkirk Mountains Population of Woodland Caribou and Proposed Rule To Amend the Listing

AGENCY: Fish and Wildlife Service, Interior.

ACTION: Proposed rule; extension of comment period and announcement of public hearings.

SUMMARY: We, the U.S. Fish and Wildlife Service (Service), are extending the public comment period on our May 8, 2014, 12-month finding and proposed rule concerning the southern Selkirk Mountains population of woodland caribou (Rangifer tarandus caribou). We will also hold two public hearings to receive comments on the proposed rule. We are taking these actions to allow all interested parties additional time and opportunity to comment on the proposed rule. Comments previously submitted need not be resubmitted and will be fully considered in preparation of the final rule.

DATES:

Written Comments: The comment period on the proposed rule published on May 8, 2014 (79 FR 26504), is extended. We will consider comments received or postmarked on or before August 6, 2014, or at the public hearings. Please note comments submitted electronically using the Federal eRulemaking Portal (see ADDRESSES) must be received by 11:59 p.m. Eastern Time on the closing date. Any comments that we receive after the closing date may not be considered in the final decisions on these actions.

Public Informational Sessions and Hearings: We will hold public informational sessions and public hearings as follows (see ADDRESSES for location information):

• On June 25, 2014, we will hold an informational session from 2:00 p.m. to 5:00 p.m., followed by a public hearing from 6:00 p.m. to 8:00 p.m., in Sandpoint, Idaho.

• On June 26, 2014, we will hold an informational session from 2:00 p.m. to 5:00 p.m., followed by a public hearing from 6:00 p.m. to 8:00 p.m., in Bonners Ferry, Idaho.

ADDRESSES:

Document Availability: You may obtain copies of the proposed rule at http://www.regulations.gov at Docket No. FWS-R1-ES-2012-0097, or by contacting the Idaho Fish and Wildlife Office directly (see FOR FURTHER INFORMATION CONTACT).

Comment Submission: You may submit written comments by one of the following methods:

(1) Electronically: Go to the Federal eRulemaking Portal: http://www.regulations.gov. Search for docket number FWS-R1-ES-2012-0097.

(2) By Hard Copy: Submit comments on the proposed rule by U.S. mail or hand-delivery to: Public Comments Processing, Attn: FWS-R1-ES-2012-0097; Division of Policy and Directives Management; U.S. Fish and Wildlife Service; 4401 N. Fairfax Drive, MS 2042-PDM; Arlington, VA 22203.

We request that you send comments only by the methods described above. We will post all comments on http://www.regulations.gov. This generally means that we will post any personal information you provide us (see the Public Comments section below for more information).

Public Informational Sessions and Hearings: Public informational sessions and public hearings for the proposed Southern Mountain Caribou DPS will be held at the following locations:

• Bonner County Headquarters meeting room, 1500 Highway 2, Sandpoint, ID 83864.

• Bonners Ferry High School, 6485 Tamarack Lane, Bonners Ferry, ID 83805.

People needing reasonable accommodation in order to attend and participate in either public hearing should contact Ben Conard, Field Supervisor, Northern Idaho Field Office, Idaho Fish and Wildlife Office, as soon as possible (see FOR FURTHER INFORMATION CONTACT).

FOR FURTHER INFORMATION CONTACT: Mike Carrier, State Supervisor, Idaho Fish and Wildlife Office, 1387 S. Vinnell Way, Room 368, Boise, ID 83709; by telephone (208) 378-5243; or by facsimile (208) 378-5262. Persons who use a telecommunications device for the deaf (TDD) may call the Federal Information Relay Service (FIRS) at 800-877-8339.

SUPPLEMENTARY INFORMATION:

Background

On May 8, 2014, we published in the Federal Register (79 FR 26504) a document consisting of: (1) Our 12-month finding on a petition to delist the southern Selkirk Mountains population of woodland caribou (Rangifer tarandus caribou); (2) a proposed rule to amend the current listing of this population by defining the Southern Mountain Caribou distinct population segment (DPS), which includes the currently listed southern Selkirk Mountains population of woodland caribou, and by listing that DPS as threatened under the Endangered Species Act of 1973, as amended (16 U.S.C. 1531 et seq.); and (3) a determination that the approximately 30,010 acres (12,145 hectares) designated as critical habitat on November 28, 2012 (77 FR 71042), for the southern Selkirk Mountains population of woodland caribou is applicable to the U.S. portion of the proposed Southern Mountain Caribou DPS.

Public Comments

We are extending the public comment period on our May 8, 2014, proposed rule (79 FR 26504) for 30 days and announcing two public informational sessions and public hearings on the proposed rule (see DATES and ADDRESSES). This extension of the comment period allows all interested parties additional time and opportunity to comment on the proposed rule. We will consider all information and recommendations from all interested parties.

For additional details on specific information we are requesting, please see the Information Requested section in our proposed rule (79 FR 26504; May 8, 2014).

You may submit your comments and materials concerning the proposed rule by one of the methods listed in ADDRESSES. We request that you send comments only by the methods described in ADDRESSES.

If you submit a comment via http://www.regulations.gov, your entire comment—including any personal identifying information such as your street address, phone number, or email address—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R1-ES-2012-0097, or by appointment, during normal business hours, at the U.S. Fish and Wildlife Service, Idaho Fish and Wildlife Office (see FOR FURTHER INFORMATION CONTACT).

Authority

The authority for this action is the Endangered Species Act of 1973, as amended (16 U.S.C. 1531 et seq.).

Dated: June 3, 2014.
Rowan W. Gould,
Acting Director, U.S. Fish and Wildlife Service.

[FR Doc. 2014-13426 Filed 6-9-14; 8:45 am]

BILLING CODE 4310-55-P